DEPARTMENT OF JUSTICE

Notice of Lodging Proposed Consent Decree

In accordance with Departmental Policy, 28 CFR 50.7, notice is hereby given that a proposed consent decree in United States v. Janice D. Todd, Civil Action No. 2:01-2179-11 (D.S.C.), was lodged with the United States District Court for the District South Carolina on November 6, 2002. This proposed Consent Decree concerns a complaint filed by the United States of America against Janice D. Todd, pursuant to section 301 of the Clean Water Act, 33 U.S.C. 1311(a), to obtain injunctive relief from and impose civil penalties against the Defendant for constructing a logging road in wetlands adjacent to the Little Salkehatchie River in Colleton County, South Carolina.

The proposed Consent Decree prohibits Janice D. Todd from discharging any pollutant into waters of the United States, unless such discharge complies with the provisions of the Clean Water Act and its implementing regulations, and requires the payment of a civil penalty.

The Department of Justice will accept written comments relating to this proposed consent Decree for thirty (30) days from the date of publication of this notice. Please address comments to Joseph P. Griffith, Jr., Assistant U.S. Attorney, 151 Meeting Street, Suite 200, P.O. Box 978, Charleston, South Carolina and refer to DJ # 90-5-1-1-16818 and civil action number 2:01-2179-11.

The proposed Consent Decree may be examined at the Clerk's Office, United States District Court for the District South Carolina, Hollings, Judicial Center, Meeting Street at Broad Street, Charleston, South Carolina 29401. In addition, the proposed Consent Decree may be viewed on the World Wide Web at http://www.usdoj.gov/enrd/enrd-home.html.

Joseph P. Griffith, Jr.,
Assistant United States Attorney, United States Attorney's Office.

[FR Doc. 02-28952 Filed 11-14-02; 8:45 am]

BILLING CODE 4410-15-M